ENVIRONMENTAL PROTECTION AGENCY

[EPA-HQ-OPP-2015-0814; FRL-9950-39]

Draft Guidance for Pesticide Registrants on the Determination of Minor Use; Notice of Availability; Extension of Comment Period

AGENCY: Environmental Protection Agency (EPA).

ACTION: Notice; extension of comment period.

SUMMARY: EPA issued a notice in the Federal Register on June 14, 2016, announcing the availability of a draft Pesticide Registration Notice (PR Notice) for review and comment. The PR Notice was entitled “Determination of Minor Use under Federal Insecticide, Fungicide, and Rodenticide Act (FIFRA), section 2(ll).” In response to a request to extend the comment period, this document extends the comment period for 30 days, from August 15, 2016 to September 14, 2016. This is one of the busiest times of year for pest control experts and this will allow them extra time to complete their review and comment on the PR Notice.

DATES: Comments must be received by September 14, 2016.

ADDRESSES: Follow the detailed instructions provided under ADDRESSES in the Federal Register documents of June 14, 2016 (81 FR 38704) (FRL 9946-13).

FOR FURTHER INFORMATION CONTACT: Derek Berwald, Biological and Economic Analysis Division, MC 7503P, Office of Pesticide Programs, Environmental Protection Agency, 1200 Pennsylvania Ave. NW., Washington, DC 20460-0001; telephone number: (703) 308-8115; email address: berwald.derek@epa.gov.

SUPPLEMENTARY INFORMATION: This document extends the public comment period established in the Federal Register document of June 14, 2016 (81 FR 38704) (FRL 9946-13) that announced the availability of a draft PR Notice entitled “Determination of Minor Use under Federal Insecticide, Fungicide, and Rodenticide Act (FIFRA), section 2(ll).” EPA is hereby extending the comment period, which was set to end on August 15, 2016, to September 14, 2016.

To submit comments, or access the docket, please follow the detailed instructions provided under ADDRESSES in the Federal Register document of June 14, 2016 (81 FR 38704) (FRL 9946-13). If you have questions, consult the person listed under FOR FURTHER INFORMATION CONTACT.

Authority: 7 U.S.C. 136 et seq.

Dated: August 10, 2016.
Wynne F. Miller,
Acting Director, Biological and Economic Analysis Division, Office of Pesticide Programs.

[FR Doc. 2016-19554 Filed 8-15-16; 8:45 am]

BILLING CODE 6560-50-P